DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee Meeting.

SUMMARY: FMCSA announces that the Motor Carrier Safety Advisory Committee (MCSAC) will hold a committee meeting. The meeting is open to the public.

DATES: The meeting will be held from 1 p.m. to 4 p.m. on March 18, 2009. Written comments must be received by noon on March 18, 2009.

ADDRESSES: The meeting will be held at the U.S. Department of Transportation, Media Center, West Building, Ground Floor, 1200 New Jersey Avenue, SE., Washington, DC 20590.

FOR FURTHER INFORMATION CONTACT: Mr. Jeffrey K. Miller, Chief, Strategic Planning and Program Evaluation Division, Office of Policy Plans and Regulation, Federal Motor Carrier Safety Administration, U.S. Department of Transportation, 1200 New Jersey Avenue, SE., Washington, DC 20590, (202) 366-5370, mcsac@dot.gov.

SUPPLEMENTARY INFORMATION:

I. Background

Section 4144 of the Safe, Accountable, Flexible, Efficient Transportation Equity Act: A Legacy for Users (SAFETEA-LU, Pub. L. 109-59) required the Secretary of the U.S. Department of Transportation to establish in FMCSA, a Motor Carrier Safety Advisory Committee. The advisory committee provides advice and recommendations to the FMCSA Administrator on motor carrier safety programs and motor carrier safety regulations. The advisory committee operates in accordance with the Federal Advisory Committee Act (5 U.S.C. App 2). The Committee is comprised of 15 members appointed by the Administrator. Two new members, Scott G. Hernandez, Lieutenant Colonel with the Colorado State Patrol, and Robert Powell, State Trooper with the Virginia State Police, were appointed by the Administrator on January 19, 2009.

II. Meeting Participation

The meeting is open to the public and FMCSA invites participation by all interested parties, including motor carriers, drivers, and representatives of motor carrier associations. Please note that attendees will need to be pre-cleared in advance of the meeting in order to expedite entry into the building. By March 16, 2009, please e-mail mcsac@dot.gov if you plan to attend the meeting, to facilitate the pre-clearance security process. For information on facilities or services for individuals with disabilities or to request special assistance at the meeting, please e-mail mcsac@dot.gov by March 16, 2009.

As a general matter, the Committee will allocate one hour for public comments on March 18, 2009, from 3 p.m. to 4 p.m. Individuals wishing to address the committee should send an e-mail to mcsac@dot.gov by March 16, 2009. The time available will be divided among those who have signed up to address the committee, but no one will be allotted more than 15 minutes. For a copy of the agenda, please send an e-mail to mcsac@dot.gov.

Individuals with a desire to present written materials to the committee should submit written comments identified by Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room W12-140, Washington, DC 20590.

• Hand Delivery: U.S. Department of Transportation, 1200 New Jersey Avenue, SE., Room W12-140, Washington, DC, between 9 a.m. and 5 p.m., Monday through Friday, except Federal holidays.

Issued on: February 25, 2009.
Larry W. Minor,
Associate Administrator for Policy and Program Development.

[FR Doc. E9-4456 Filed 3-2-09; 8:45 am]

BILLING CODE 4910-EX-P